FEDERAL EMERGENCY MANAGEMENT AGENCY

44 CFR Part 65

Changes in Flood Elevation Determinations

AGENCY: Federal Emergency Management Agency, (FEMA).

ACTION: Final rule.

SUMMARY: Modified Base (1-percent-annual-chance) Flood Elevations (BFEs) are finalized for the communities listed below. These modified elevations will be used to calculate flood insurance premium rates for new buildings and their contents.

EFFECTIVE DATES: The effective dates for these modified BFEs are indicated on the table below and revise the Flood Insurance Rate Maps ((FIRMs) in effect for the listed communities prior to this date.

ADDRESSES: The modified BFEs for each community are available for inspection at the office of the Chief Executive Officer of each community. The respective addresses are listed in the table below.

FOR FURTHER INFORMATION CONTACT: Michael M. Grimm, Chief, Hazards Study Branch, Federal Insurance and Mitigation Administration, 500 C Street, SW., Washington, DC 20472, (202) 646-2878 or (e-mail) michael.grimm@fema.gov.

SUPPLEMENTARY INFORMATION: FEMA makes the final determinations listed below of the final determinations of modified BFEs for each community listed. These modified elevations have been published in newspapers of local circulation and ninety (90) days have elapsed since that publication. The Administrator, Federal Insurance and Mitigation Administration, has resolved any appeals resulting from this notification.

The modified BFEs are not listed for each community in this notice. However, this rule includes the address of the Chief Executive Officer of the community where the modified BFE determinations are available for inspection.

The modifications are made pursuant to Section 206 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings.

The changes in BFEs are in accordance with 44 CFR 65.4.

National Environmental Policy Act

This rule is categorically excluded from the requirements of 44 CFR Part 10, Environmental Consideration. No environmental impact assessment has been prepared.

Regulatory Flexibility Act

The Administrator, Federal Insurance and Mitigation Administration, certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and names of newspaper where notice was published | Chief executive officer of community | Effective date of modification | Community No.
Arkansas:
Cleburne, (Case No. 02-06-784P) (FEMA Docket No. P7610) | Unincorporated Areas | April 3, 2002, April 10, 2002, The Sun Times | The Honorable Claude Dill, Judge, Cleburne County, County Courthouse, 301 West Main Street, Heber Springs, AR 72543 | Mar. 12, 2002 | 050424
Sebastian, (Case No. 01-06-1837P) (FEMA Docket No. P7612) | City of Fort Smith | June 12, 2002, June 19, 2002, Southwest Times Record | The Hon. Raymond C. Baker, Mayor, City of Fort Smith, P.O. Box 1908, Fort Smith, AR 72902 | May 31, 2002 | 55013
Illinois:
Will, (Case No. 02-05-2034P) (FEMA Docket No. P7612) | City of Joliet | June 20, 2002, June 27, 2002, Farmers Weekly Review | The Honorable Arthur Schultz, Mayor, City of Joliet, Municipal Building, 150 West Jefferson Street, Joliet, IL 60432 | Sept. 26, 2002 | 170702
McHenry, (Case No. 01-05-3762P) (FEMA Docket No. P7614) | Village of Lake In The Hills | July 2, 2002, July 9, 2002, The Northwest Herald | The Honorable Ed Plaza, Village President, 1115 Crystal Lake Road, Lake In The Hills, IL 60156 | Oct. 8, 2002 | 170481
McHenry, (Case No. 01-05-3762P) (FEMA Docket No. P7614) | Unincorporated Areas | July 2, 2002, July 9, 2002, The Northwest Herald | The Honorable Mike Tryon, Chairperson, McHenry County Board, McHenry County Gov't Center, 2200 North Seminary Avenue, Woodstock, IL 60098 | Oct. 8, 2002 | 170732
Will, (Case No. 02-05-2034P) (FEMA Docket No. P7612) | Village of Plainfield | June 19, 2002, June 26, 2002, The Enterprise | Mr. Richard Rock, Village President, Village of Plainfield, 530 West Lockport Street, Suite 206, Plainfield, IL 60544 | Sept. 25, 2002 | 170771
Will, (Case No. 02-05-2034P) (FEMA Docket No. P7612) | Unincorporated Areas | June 19, 2002, June 25, 2002, The Herald News | Mr. Joseph Mikan, Will County Executive, 302 North Chicago Street, Joliet, IL 60432 | Sept. 24, 2002 | 170695
Minnesota:
Dakota, (Case No. 01-05-2461P) (FEMA Docket No. P7612) | City of Lakeville | May 1, 2002, May 8, 2002, The Lakeville Sun Current | Mr. Robert Erickson, Lakeville City Administrator, 20195 Holyoke Avenue, Lakeville, MN 55044 | Aug. 7, 2002 | 270107
Dakota, (Case No. 02-05-0298P) (FEMA Docket No. P7612) | City of Lakeville | May 22, 2002, May 29, 2002, The Lakeville Sun Current | Mr. Robert Erickson, Lakeville City Administrator, 20195 Holyoke Avenue, Lakeville, MN 55044 | Aug. 28, 2002 | 270107
Lyon, (Case No. 02-05-1586P) (FEMA Docket No. P7612) | City of Marshall | May 24, 2002, May 31, 2002, Marshall Independent | The Honorable Robert Byrnes, Mayor, City of Marshall, 344 West Main Street, Marshall, MN 56258 | Aug. 30, 2002 | 270258
Missouri:
St. Louis, (Case No. 01-07-499P) (FEMA Docket No. P7610) | City of Ladue | April 19, 2002, April 26, 2002, Saint Louis Post Dispatch | The Honorable Jean Quenlen, Mayor, City of Ladue, 9345 Clayton Road, Ladue, MO 63124-1511 | Apr. 2, 2002 | 290363
Ohio:
Lorain, (Case No. 02-05-1841P) (FEMA Docket No. P7612) | City of Avon Lake | May 23, 2002, May 30, 2002, The Sun | The Honorable Robert Berner, Mayor, City of Avon Lake, 150 Avon-Belden Road, Avon Lake, OH 44012 | Aug. 28, 2002 | 390602
Butler and Warren (Case No. 01-05-1645P) (FEMA Docket No. P7614) | Village of Monroe | July 3, 2002, July 10, 2002, Middletown Journal | The Hon. Michael P. Morris, Mayor, Village of Monroe, 233 South Main Street, Monroe, OH 45050 | Oct. 9, 2002 | 390042
Cuyahoga, (Case No. 01-05-542P) (FEMA Docket No. P7612) | City of Parma Heights | May 2, 2002, May 9, 2002, Parma Sun Post | The Honorable Paul Cassidy, Mayor, City of Parma Heights, 6281 Pearl Road, Parma Heights, OH 44130 | Aug. 8, 2002 | 390124
Franklin and Delaware, (Case No. 02-05-1465P) (FEMA Docket No. P7612) | City of Westerville | May 22, 2002, May 29, 2002, Westerville News and Public Opinion | The Hon. Stewart Flaherty, Mayor, City of Westerville, 21 South State Street, Westerville, OH 43081 | Aug. 29, 2002 | 390179
Warren, (Case No. 01-05-1645P) (FEMA Docket No. P7614) | Unincorporated Areas | July 3, 2002, July 10, 2002, The Western Star | Mr. C. Michael Kilburn, President, Warren County, Board of Commissioners, 406 Justice Drive, Lebanon, OH 45036 | Oct. 9, 2002 | 390757
Oklahoma:
Tulsa, (Case No. 01-06-701P) (FEMA Docket No. P7612) | City of Bixby | April 25, 2002, May 2, 2002, The Bixby Bulletin | The Honorable Joe Williams, Mayor, City of Bixby, 116 West Needles Street, Bixby, OK 74008 | Aug. 1, 2002 | 400207
Oklahoma, Canadian, Cleveland, McClain and Pottawatomie, (Case No. 01-06-2001P) (FEMA Docket No. P7612) | City of Oklahoma City | June 18, 2002, June 25, 2002, The Daily Oklahoman | The Hon. Kirk Humphreys, Mayor, City of Oklahoma city, 200 North Walker, Suite 302, Oklahoma City, OK 73102 | Sept. 24, 2002 | 405378
Texas:
Collin, (Case No. 02-06-1539P) (FEMA Docket No. P7612) | City of Allen | May 29, 2002, June 5, 2002, The Allen American | The Honorable Steve Terrell, Mayor, City of Allen, One Allen Civil Plaza, Allen, TX 75013 | Sept. 4, 2002 | 480131
Collin, (Case No. 01-06-820P) (FEMA Docket No. P7612) | City of Allen | June 14, 2002, June 21, 2002, The Allen American | The Honorable Steve Terrell, Mayor, City of Allen, One Allen Civic Plaza, Allen, TX 75013 | Sept. 18, 2002 | 480131
Travis, (Case No. 02-06-826P) (FEMA Docket No. P7610) | City of Austin | April 30, 2002, May 7, 2002, Austin American Statesman | The Honorable Kirk Watson, Mayor, City of Austin, 124 West 8th Street, Austin, TX 78701 | Aug. 6, 2002 | 480624
Travis, (Case No. 01-06-338P) (FEMA Docket No. P7612) | City of Austin | May 31, 2002, June 7, 2002, Austin American Statesman | The Honorable Gus Garcia, Mayor, City of Austin, P.O. Box 1088, Austin, TX 78767 | Sept. 6, 2002 | 480624
Bexar, (Case No. 02-06-761P) (FEMA Docket No. P7612) | Unincorporated Areas | May 9, 2002, May 16, 2002, San Antonio Express News | The Honorable Nelson Wolff, Judge, Bexar County, 100 Dolorosa, Suite 120, San Antonio, TX 78205 | Aug. 15, 2002 | 480035
Bexar, (Case No. 01-06-1795P) (FEMA Docket No. P7612) | Unincorporated Areas | May 24, 2002, May 31, 2002, San Antonio Express News | The Honorable Nelson Wolff, Judge, Bexar County, 100 Dolorosa, Suite 120, San Antonio, TX 78205 | Aug. 30, 2002 | 480035
Brazos, (Case No. 02-06-031P) (FEMA Docket No. P7612) | City of College Station | May 24, 2002, May 31, 2002, The Bryan/College Station Eagale | The Hon. Lynn McIlhaney, Mayor, City of College Station, P.O. Box 9960, College Station, TX 77842 | Aug. 30, 2002 | 480083
Denton, (Case No. 02-06-276P) (FEMA Docket No. P7612) | City of Denton | May 22, 2002, May 29, 2002, Denton Record Chronicle | The Honorable Euline Brock, Mayor, City of Denton, 215 East McKinney Street, Denton, TX 76201 | May 2, 2002 | 480194
Tarrant, (Case No. 01-06-508P) (FEMA Docket No. P7610) | City of Fort Worth | March 20, 2002, March 27, 2002, Fort Worth Star Telegram | The Honorable Kenneth Barr, Mayor, City of Fort Worth, 1000 Throckmorton Street, City Hall, Fort Worth, TX 76102-6311 | June 26, 2002 | 480596
Tarrant, (Case No. 01-06-982P) (FEMA Docket No. P7612) | City of Forth Worth | June 7, 2002, June 14, 2002, Fort Worth Star Telegram | The Honorable Kenneth Barr, Mayor, City of Fort Worth, 1000 Throckmorton Street, City Hall, Fort Worth, TX 76102 | Sept. 13, 2002 | 480596
Gillespie, (Case No. 00-06-1860P) (FEMA Docket No. P7612) | City of Fredericksburg | May 22, 2002, May 29, 2002, Fredericksburg Standard Radio Post | The Honorable Tim Crenwelge, Mayor, City of Fredericksburg, 126 West Main Street, Fredericksburg, TX 78624 | Aug. 28, 2002 | 480252
Dallas, (Case No. 02-06-591P) (FEMA Docket No. P7610) | City of Garland | March 7, 2002, March 14, 2002, Garland Morning News | The Honorable Jim Spence, Mayor, City of Garland, 200 North 5th Street, P.O. Box 469002, Garland, TX 76046-9002 | June 13, 2002 | 485471
Dallas, (Case No. 02-05-151P) (FEMA Docket No. P7612) | City of Garland | May 2, 2002, May 9, 2002, Garland Morning News | The Honorable Jim Spence, Mayor, City of Garland, P.O. Box 469002, Garland, TX 75046-9002 | Aug. 8, 2002 | 485471
Dallas, (Case No. 01-06-1213P) (FEMA Docket No. P7612) | City of Glenn Heights | May 22, 2002, May 29, 2002, Focus Daily News | The Honorable Mary Coffman, Mayor, City of Glenn Heights, 1938 South Hampton, Glenn Heights, TX 75154 | Aug. 28, 2002 | 481265
Hood, (Case No. 02-06-198P) (FEMA Docket No. P7612) | City of Granbury | May 30, 2002, June 6, 2002, Hood County News | The Honorable David Southern, Mayor, City of Granbury, P.O. Box 969, Granbury, TX 76048 | Sept. 5, 2002 | 480357
Hidalgo, (Case No. 02-06-715P) (FEMA Docket No. P7612) | Unincorporated Areas | July 1, 2002, July 8, 2002, The Monitor | The Honorable Jose E. Pulido, Judge, Hidalgo County, 100 E. Cano Street, Edinburg, TX 78539 | May 30, 2002 | 480334
Hood, (Case No. 02-06-198P) (FEMA Docket No. P7612) | Unincorporated Areas | May 30, 2002, June 6, 2002, Hood County News | The Honorable Linda Steen, Judge, Hood County, 100 East Pearl Street, Granbury, TX 76048 | Sept. 5, 2002 | 480356
Tarrant, (Case No. 01-06-1481P) (FEMA Docket No. P7612) | City of Hurst | May 24, 2002, May 31, 2002, Dallas Morning News | The Honorable Bill Souder, Mayor, City of Hurst, 1505 Precinct Line Road, Hurst, TX 76054 | Apr. 30, 2002 | 480601
Gregg and Harrisson, (Case No. 02-06-512P) (FEMA Docket No. P7612) | City of Longview | May 10, 2002, May 17, 2002, Longview News Journal | The Honorable Earl Roberts, Mayor, City of Longview, P.O. Box 1952, 300 West Cotton Street, Longview, TX 75606 | Aug. 16, 2002 | 480264
Collin, (Case No. 01-06-1229P) (FEMA Docket No. P7612) | City of McKinney | May 7, 2002, May 14, 2002, McKinney Courier Gazette | The Honorable Don Dozier, Mayor, City of McKinney, P.O. Box 517, McKinney, TX 75070 | Aug. 13, 2002 | 480135
Montgomery, (Case No. 02-06-763P) (FEMA Docket No. P7612) | Unincorporated Areas | May 1, 2002, May 8, 2002, The Courier | The Honorable Alan B. Sadler, Judge, Montgomery County, 301 North Thompson Street, Suite 210, Conroe, TX 77301 | Aug. 7, 2002 | 480483
Travis, (Case No. 00-06-1827P) (FEMA Docket No. P7610) | Unincorporated Areas | March 6, 2002, March 13, 2002, Austin American Statesman | The Honorable Samuel Biscoe, Judge, Travis County, P.O. Box 1748, Austin, TX 78767-1748 | June 12, 2002 | 481026

(Catalog of Federal Domestic Assistance No. 83.100, “Flood Insurance.”)
Dated: November 14, 2002.
Anthony S. Lowe,
Administrator, Federal Insurance and Mitigation Administration.

[FR Doc. 02-29867 Filed 11-29-02; 8:45 am]

BILLING CODE 6718-04-P